Notice of September 9, 2022

Continuation of the National Emergency With Respect to Ethiopia

On September 17, 2021, by Executive Order 14046, I declared a national emergency pursuant to the International Emergency Economic Powers Act (50 U.S.C. 1701 et seq.) to deal with the unusual and extraordinary threat to the national security and foreign policy of the United States constituted by the situation in and in relation to northern Ethiopia.

The situation in and in relation to northern Ethiopia, which has been marked by activities that threaten the peace, security, and stability of Ethiopia and the greater Horn of Africa region—in particular, widespread violence, atrocities, and serious human rights abuses, including those involving ethnic-based violence, rape and other forms of gender-based violence, and obstruction of humanitarian operations—continues to pose an unusual and extraordinary threat to the national security and foreign policy of the United States. For this reason, the national emergency declared in Executive Order 14046 of September 17, 2021, must continue in effect beyond September 17, 2022. Therefore, in accordance with section 202(d) of the National Emergencies Act (50 U.S.C. 1622(d)), I am continuing for 1 year the national emergency declared in Executive Order 14046 with respect to Ethiopia.

This notice shall be published in the Federal Register and transmitted to the Congress.

THE WHITE HOUSE,

September 9, 2022.

[FR Doc. 2022-19863

Filed 9-9-22; 11:15 am]

Billing code 3395-F2-P